DEPARTMENT OF HEALTH AND HUMAN SERVICES

National Institutes of Health

National Center for Complementary & Alternative Medicine; Amended Notice of Meeting

Notice is hereby given of a change in the meeting of the National Advisory Council for Complementary and Alternative Medicine, February 3, 2012, 8:30 a.m. to February 3, 2012, 4 p.m., National Institutes of Health, Building 31, 31 Center Drive, Bethesda, MD, 20892 which was published in the Federal Register on December 21, 2011, 76 FR 79202.

This meeting has been amended so that the open session will begin at 10 a.m. instead of 10:45 am. The public comment period will be from 3:30 p.m. to 3:45 p.m. The meeting is partially Closed to the public.

Dated: January 20, 2012.
Jennifer S. Spaeth,
Director, Office of Federal Advisory Committee Policy.

[FR Doc. 2012-1702 Filed 1-25-12; 8:45 am]

BILLING CODE 4140-01-P